DEPARTMENT OF AGRICULTURE

Animal and Plant Health Inspection Service

[Docket No. APHIS-2018-0075]

Notice of Availability of an Environmental Assessment and Finding of No Significant Impact for the Biological Control of Brazilian Peppertree

AGENCY: Animal and Plant Health Inspection Service, USDA.

ACTION: Notice of availability.

SUMMARY: We are advising the public that we have prepared a final environmental assessment and finding of no significant impact relative to the release of Calophya latiforceps and Pseudophilothrips ichini for the biological control of Brazilian peppertree, a significant invasive weed, within the contiguous United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@usda.gov.

SUPPLEMENTARY INFORMATION: Brazilian peppertree (Schinus terebinthifolia) is an evergreen perennial shrub or small tree found in various southern States but grows primarily in Florida. This noxious weed poses a serious threat to biodiversity in many ecosystems and invades areas such as canal banks, fallow farmlands, and natural communities.

On February 27, 2019, we published in the Federal Register (84 FR 6355-6356, Docket No. APHIS-2018-0075) a notice ¹ in which we announced the availability, for public review and comment, of an environmental assessment (EA) that examined the potential environmental impacts associated with the release of Calophya latiforceps and Pseudophilothrips ichini for the biological control of Brazilian peppertree within the contiguous United States.

¹ To view the notice, supporting documents, and the comments we received, go to http://www.regulations.gov/#!docketDetail;D=APHIS-2018-0075.

We solicited comments on the EA for 30 days ending March 29, 2019. We received 129 comments by that date. Our responses to the comments are included in the final EA.

In this document, we are advising the public of our finding of no significant impact (FONSI) regarding the release of C. latiforceps and P. ichini for the biological control of Brazilian peppertree within the contiguous United States. The finding, which is based on the EA, reflects our determination that release of the C. latiforceps and P. ichini will not have a significant impact on the quality of the human environment. Concurrent with this announcement, we will issue a permit for the release of C. latiforceps and P. ichini for the biological control of Brazilian peppertree.

The EA and FONSI may be viewed on the Regulations.gov website (see footnote 1). Copies of the EA and FONSI are also available for public inspection at USDA, Room 1141, South Building, 14th Street and Independence Avenue SW, Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 21st day of June 2019.
Kevin Shea,
Administrator, Animal and Plant Health Inspection Service.

[FR Doc. 2019-13705 Filed 6-26-19; 8:45 am]

BILLING CODE 3410-34-P